DEPARTMENT OF AGRICULTURE

Forest Service

Grand Mesa, Uncompahgre and Gunnison National Forests; Robin Redbreast Unpatented Lode Claim Mining Plan of Operations; Hinsdale County, CO

AGENCY: Forest Service, USDA.

ACTION: Notice of intent to prepare an environmental impact statement.

SUMMARY: A proposed Plan of Operations has been submitted for approval. The Forest Service will prepare an Environmental Impact Statement (EIS) to assess and disclose the environmental effects of access and mine development the Robin Redbreast unpatented lode mining claim. The Robin Redbreast Lode mining claim is located in the NE 1/4, Section 34, Township 45 North, Range 6 West, New Mexico Principle Meridian, Hinsdale County, Colorado. The Robin Redbreast mine, an unpatented lode mining claim, was located in 1938 in Porphry Basin on the Uncompahgre National Forest. It is recorded in the Hinsdale County Courthouse, Lake City, Colorado. The most recent approved operating plan is dated August 1983.

The Robin Redbreast Lode mining claim is located at an elevation of 11,400 feet in the Uncompahgre Wilderness Area, established first as the Big Blue Wilderness in 1980, and changed to the Uncompahgre Wilderness in the 1993 Colorado Wilderness Act. The If the Plan Of Operations is approved as proposed, mining operations at the Robin Redbreast site, and travel to and from the mine would occur within designated Wilderness. The Forest Service will prepare an Environmental Impact Statement (EIS) to assess and disclose the environmental effects of access and mine development of the Robin Redbreast Lode mining claim.

The EIS will comply with the requirements of the National Environmental Policy Act (42 U.S.C. 4321-4370a), the National Forest Management Act (16 U.S.C. 1600-1614), and the U.S. mining laws (30 U.S.C. 21-54), and their implementing regulations.

DATES: Comments concerning the proposal and the scope of the analysis will be accepted and considered at any time after publication of this notice in the Federal Register and prior to a decision being made. To be most helpful in the design of the analysis, comments should be received within 45 days of publication of this NOI in the Federal Register.

The draft EIS is expected to be filed with the Environmental Protection Agency (EPA) and available for public review during December 2004. When a draft EIS is available the EPA will publish a Notice of Availability (NOA) in the Federal Register. The comment period on the draft EIS will be for a period of not less than 45 days from the date the EPA publishes the NOA in the Federal Register. The final EIS is expected to be available in June 2005.

ADDRESSES: Send written comments to Jeff Burch, Grand Mesa, Uncompahgre and Gunnison National Forest, Supervisor's Office, 2250 Highway 50, Delta, CO 81416. Electronic mail (e-mail) may be sent to jburch@fs.fed.us and FAX may be sent to (970) 874-6698. Telephone: (970) 874-6649.

FOR FURTHER INFORMATION CONTACT: Jeff Burch, Environmental Coordinator, Grand Mesa, Uncompahgre and Gunnison National Forests, 2250 Highway 50, Delta, Colorado 81416. Telephone: (970) 874-6649.

SUPPLEMENTARY INFORMATION:

Purpose and Need for Action

The project would serve to meet the goal of the developent and production of precious metals, gold and silver, from the Robin Redbreast unpatented mining claim.

Proposed Action

Proposed Mine Operations

An open field area adjacent to the Middle Fork trailhead #227 is proposed for the project staging area to be used during construction and development of the operation. This trailhead is outside of the Wilderness.

Proposed ground access to the mine site is by foot, horseback, or mule-train via an existing single track Wilderness trail, Forest Service Trail #227. Helicopter access is proposed for approximately two days per month to ferry equipment and supplies. Surface facilities necessary to support mining would involve clearing and terracing of two separate sub-alpine sites: One approximately 70 by 90 feet in size, and another approximately 200 by 170 feet in size. Facilities to be placed at each of these sites would include a shop, fuel containment area, a powder and primer magazine, a generator shed, an ore storage and sorting pad, and a waste rock storage area. A small support cabin was constructed during past mining activity and is located approximately 75 feet from the proposed mining area. A rubber tired Bobcat sized loader and slusher would be used at the mine site for surface preparation and underground mining and hauling.

Two portals and associated mine tunnels totaling approximately 650 feet in length would be constructed to reach the ore body. Once the ore body is reached, ore removed from the mine would be sorted by hand on site. Higher grade ore would be loaded onto pack mules, packed out to the trail head in the Middle Fork of the Cimarron via Forest Service Trails #227 and #243, and then trucked daily off the Forest in a one-ton pickup truck. It is anticipated at this time that over the course of mine development a total of 2550 tons of waste rock will be generated. However, the true extent of the ore body, which can not be known at this time, will how much waste rock will will eventually be produced. The submitted plan of operations proposes that during mining operations, a mule-train, including eight mules and two horses with riders, would make two trips a day, originating at the trail head and going to and from the mine site. Also proposed are daily pickup truck trips on existing state highways and improved Forest Development roads, from Montrose to the trailhead and back, and twice monthly helicopter trips to and from the mine site.

Timber needed to support mining operations would be cut from the surrounding forest, on the mining claim, using standing dead trees first, but green timber if necessary. Living quarters for four to five workers would be the existing cabin. Drinking water would come from Porphyry Creek, which flows through the claim. Chemex self-contained toilets are proposed for use near the cabin and at the mine sites. Fuel storage pads would be constructed to hold up to 1375 gallons at any one time. The extent of the ore body, if one does exist, is not known. It is impossible at this time to anticipate the precise duration of mining activities at this site. The expected duration is five to ten years, dependent again upon actual extent of the ore body. Operations are proposed to take place between May and November because of heavy winter snows at this elevation. Reclamation of the site would be required at the end of mining operations. Sufficient bond to ensure compliance will be required.

Possible Alternatives

At this time a possible alternative staging area for helicopter loading further down the valley of the middle fork of the Cimarron has been identified. It is located near the point at which the Middle Fork road (FDR #861) departs from the main road accessing the Silverjack area. Also, an alternative livestock staging area and trail head for this operation will be considered. Additionally, an alternative of removing ore by helicopter rather than by mule train may be explored.

Lead and Cooperating Agencies

The Forest Service is the lead agency. There are no cooperating agencies.

Responsible Official

The Forest Supervisor, (now vacant), Grand Mesa, Uncompahgre and Gunnison National Forests, 2250 Highway 50, Delta, Colorado 81416 is the official responsible for making the decision on this action. He/she will document his/her decision and rationale in a Record of Decision.

Nature of Decision To Be Made

It is the purpose of the analysis, and of the decision that follows it, to allow Robert and Marjorie Miller to exercise their right to mine within their unpatented lode mining claim while protecting National Forest resources and values, consistent with the General Mining Law of 1872 as amended, with other applicable law regulation and policy, and with the standards and guidelines in the Grand Mesa, Uncompahgre, and Gunnison National Forest Land Management Plan. The Responsible Official will consider the results of the analysis and its findings and then document the final decision in a Record of Decision (ROD). The nature of the Forest Service decision to be made in response to the Plan Of Operations submitted by Robert W. and Margorie Miller is: (1) Approve the project as proposed, or (2) Notify the operator of changes or additions to the Plan Of Operations necessary to minimize or eliminate adverse environmental impacts from mineral activities on National Forest System (NFS) lands, as required by Forest Service Regulations (36 CFR part 228A).

The Grand Mesa, Uncompahgre, and Gunnison National Forest Supervisor (Responsible Official) has determined that preparation of the EIS is required for approval of the Plan Of Operations under Forest Service regulations governing locatable mineral activities on National Forest System Lands (36 CFR 228A) and CEQ regulations implementing the National Environmental Policy Act (40 CFR 1501-1508). It is not the purpose of the analysis to determine management of mineral resources. The responsibility for that determination lies with the Secretary of the Interior.

Scoping Process

Scoping for this project will consist of this notice in the Federal Register, mailing of this notice to parties known to be interested, a news release for publication in local newspapers, and notification of local elected representatives. At this time no public meetings are planned.

Preliminary Issues

Preliminary issues identified so far include: Effects of helicopter noise on recreation experience in Wilderness and there surrounding National Forest, including the Silverjack Reservior area; effects of livestock staging and use at the Middle Fork (#243) trail head, and on trails to Porphyry Basin (trails #243 and 227); effects of mining and access on Wilderness; effects of access and hauling on Forest roads and trails; effects of mining operations on surface and sub-surface waters; effects of mining operations on cultural or historic properties; effects of mining operations on wildlife, plant life and ecosystems; effects of mining operations on recreation experience, and on opportunities for users of the area during and after mining operations; and effects on the long term condition of the site.

Permits or Licenses Required

Additional permits or licenses which may be required in addition to Forest Service authorizations include, but are not limited to the following: Department of the Army (Section 404 of the Federal Clean Water Act) Permit for dredge and fill of wetlands or waters of the United States; Permit from Colorado Department of Public Safety (Section 402 of the Federal Clean Water Act) addressing storm-water run-off; Environmental Protection Agency approval of Spill Prevention, Control, and Countermeasures Plan; Colorado Division of Minerals 110 Limited Impact Permit. In addition water rights for use of water from Porphyry Creek will need to be obtained.

Comment Requested

This notice of intent initiates the scoping process which guides the development of the environmental impact statement. Public scoping describing the Plan of Operations associated with the Robin Redbreast Lode mining claim is being initiated with this Notice of Intent. Comments from this scoping effort will be reviewed to identify potential issues for this analysis. While comments are welcome at any time, comments received within 45 days of the publication of this notice in the Federal Register will be most useful for the identification of issues and the analysis of alternatives. The name and mailing address of commenters should be provided with their comments so that future documents pertaining to this environmental analysis and the decision can be provided to interested parties.

In the final EIS, the Forest Service will respond to any comments, received during the public comment period, that pertain to the environmental analysis. Those comments and the Forest Service responses will be disclosed and discussed in the final EIS and will be considered when the final decision about this proposal is made.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Also, comment during this 45-day comment period is required to establish eligibility to appeal the final decision under 36 CFR part 215.

(Authority: 40 CFR 1501.7 and 1508.22; Forest Service Handbook 1909.15, Section 21)
Dated: June 3, 2004.
Larry M. Hill,
Acting Forest Supervisor.

[FR Doc. 04-13504 Filed 6-15-04; 8:45 am]

BILLING CODE 3410-11-P